DEPARTMENT OF LABOR

Employment and Training Administration

Investigations Regarding Certifications of Eligibility To Apply for Worker Adjustment Assistance and Alternative Trade Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than September 21, 2007.

Interested persons are invited to submit written comments regarding the subject matter of the investigations to the Director, Division of Trade Adjustment Assistance, at the address shown below, not later than September 21, 2007.

The petitions filed in this case are available for inspection at the Office of the Director, Division of Trade Adjustment Assistance, Employment and Training Administration, U.S. Department of Labor, Room C-5311, 200 Constitution Avenue, NW., Washington, DC 20210.

Signed at Washington, DC, this 4th day of September 2007.
Ralph DiBattista,
Director, Division of Trade Adjustment Assistance.

Appendix
[TAA petitions instituted between 8/27/07 and 8/31/07]
TA-W | Subject firm (petitioners) | Location | Date of institution | Date of petition
62044 | Foamex (Union) | Eddystone, PA | 08/27/07 | 08/24/07
62045 | Tweel Home Furnishings (State) | Newark, NJ | 08/27/07 | 08/23/07
62046 | Wallowa Forest Products (State) | Wallowa, OR | 08/27/07 | 08/24/07
62047 | Wheatland Tube Company (State) | Collingswood, NJ | 08/27/07 | 08/24/07
62048 | Tinnerman Palunt Engineered Products, Inc. (Comp) | Mountainside, NJ | 08/27/07 | 08/24/07
62049 | Liberty Fibers Corporation (Comp) | Lowland, TN | 08/27/07 | 08/24/07
62050 | GAF Materials Corporation (Wkrs) | Erie, PA | 08/28/07 | 08/27/07
62051 | Actown Electrocoil (Comp) | Spring Grove, IL | 08/28/07 | 08/23/07
62052 | Freescale Semiconductor, Inc. (Wkrs) | Tempe, AZ | 08/28/07 | 08/24/07
62053 | Sunrise Medical Corporation (Comp) | Somerset, PA | 08/28/07 | 08/27/07
62054 | MJM Jewelry (Wkrs) | Brooklyn, NY | 08/28/07 | 08/27/07
62055 | Siemens Medical—Oncology Care Systems (Comp) | Concord, CA | 08/28/07 | 08/15/07
62056 | Glako Smith Kline /Shared Financial Services (Wkrs) | Philadelphia, PA | 08/28/07 | 08/27/07
62057 | Bean Lumber Company (State) | Amity, AR | 08/28/07 | 08/27/07
62058 | ArvinMeritor (Comp) | Chickasha, OK | 08/28/07 | 08/27/07
62059 | Tyco Electronics (M/A-Com) (Wkrs) | Lowell, MA | 08/28/07 | 08/24/07
62060 | Spirit Airlines Reservation Center (Wkrs) | Clinton Township, MI | 08/29/07 | 08/23/07
62061 | International Legwear Group (Comp) | Hildebran, NC | 08/29/07 | 08/27/07
62062 | IPC Information Systems (Wkrs) | Mt. Laurel, NJ | 08/29/07 | 08/22/07
62063 | Tubafor Mill, Inc. (UBC) | Morton, WA | 08/29/07 | 08/28/07
62064 | Pfizer, Inc. (State) | Portage, MI | 08/29/07 | 08/16/07
62065 | Keykert USA (Comp) | Wixom, MI | 08/29/07 | 08/28/07
62066 | Magna Donnelly (Comp) | Holland, MI | 08/29/07 | 08/28/07
62067 | Crosible, Inc. (Comp) | Moravia, NY | 08/30/07 | 08/27/07
62068 | TI Automotive Systems LLC (Comp) | Hebron, OH | 08/30/07 | 08/29/07
62069 | Delphi Corporation (Comp) | Flint, MI | 08/30/07 | 08/27/07
62070 | Block Corporation (Comp) | Tupelo, MS | 08/30/07 | 08/28/07
62071 | Bedford Fair Apparel (State) | Greenwich, CT | 08/30/07 | 08/28/07
62072 | Block Corporation (Wkrs) | Columbus, MS | 08/30/07 | 08/29/07
62073 | Fujitsu Ten Corp of America (Comp) | Rushville, IN | 08/30/07 | 08/28/07
62074 | Playtex Puerto Rico (State) | Vega Baja, PR | 08/31/07 | 08/29/07
62075 | Argus—Fremont, Oakland Tribune (Wkrs) | Oakland, CA | 08/31/07 | 08/23/07
62076 | Ametek, Inc. (Comp) | West Chicago, IL | 08/31/07 | 08/30/07
62077 | CloseMaid (DoAble Products) (Comp) | Diboll, TX | 08/31/07 | 08/30/07
62078 | Colgate Palmolive (State) | Guayama, PR | 08/31/07 | 08/29/07
62079 | Penn Specialty Chemical (Wkrs) | Memphis, TN | 08/31/07 | 08/30/07
62080 | Tri Mas Corporation/Lake Erie Products (Wkrs) | Wood Dale, IL | 08/31/07 | 08/17/07
62081 | Meridian Automotive Systems (USW) | Jackson, OH | 08/31/07 | 08/30/07
62082 | LexaMar Corporation (Comp) | Boyne City, MI | 08/31/07 | 08/29/07
62083 | Chardon Rubber Company (Comp) | St. Joseph, MI | 08/31/07 | 08/30/07

[FR Doc. E7-17883 Filed 9-10-07; 8:45 am]

BILLING CODE 4510-FN-P